DEPARTMENT OF TRANSPORTATION

National Highway Traffic Safety Administration

[Docket No. NHTSA-2012-0063]

Highway Safety Programs; Conforming Products List of Calibrating Units for Breath Alcohol Testers

AGENCY: National Highway Traffic Safety Administration, Department of Transportation.

ACTION: Notice.

SUMMARY: This notice updates the Conforming Products List (CPL) published in the Federal Register on June 25, 2007 (72 FR 34747) for devices that conform to the Model Specifications for Calibrating Units for Breath Alcohol Tester (CUs) dated, June 25, 2007 (72 FR 34742). This update to the CPL includes 44 new listings—3 wet bath units and 41 dry gas units.

DATES: Effective Date: October 22, 2012.

FOR FURTHER INFORMATION CONTACT: For technical issues: Ms. De Carlo Ciccel, Behavioral Research Division, NTI-131, National Highway Traffic Safety Administration, 1200 New Jersey Avenue SE., Washington, DC 20590; Telephone: (202) 366-1694. For legal issues: Mr. David Bonelli, Office of Chief Counsel, NCC-113, National Highway Traffic Safety Administration, 1200 New Jersey Avenue SE., Washington, DC 20590; Telephone number (202) 366-2580.

SUPPLEMENTARY INFORMATION: On August 18, 1975 (40 FR 36167), the National Highway Traffic Safety Administration (NHTSA) published a standard for Calibrating Units for Breath Alcohol Testers. A Qualified Products List of calibrating units for breath alcohol testers that met the standard was first issued on November 30, 1976 (41 FR 53389).

On December 14, 1984, NHTSA issued a notice to convert the mandatory standards for calibrating units for breath alcohol testers to Model Specifications for such devices (49 FR 48865) and to establish a Conforming Products List (CPL) of calibrating units meeting the Model Specifications. Calibrating units provide known concentrations of ethanol vapor for the calibration or calibration checks of instruments that measure breath alcohol (BrAC).

On December 29, 1994, NHTSA published a notice amending the Model Specifications and updated the CPL for calibrating units (59 FR 67377). That notice also proposed and sought comments about an alternate test procedure using National Institute for Standards and Technology (NIST) Reference Gas Mixtures for evaluating the accuracy and precision of dry-gas ethanol calibrating units. In Appendix A of that notice, NHTSA identified the calibrating units with an asterisk that had been tested and found to conform to the 1984 Model Specifications (49 FR 48864), when tested at alcohol concentrations 0.050, 0.100, and 0.150. All the other calibrating units listed had been tested and found to conform to the 1994 amended Model Specifications (59 FR 67377) when tested at alcohol concentrations 0.000, 0.020, 0.040, 0.080 and 0.160.

The agency amended the Model Specifications on August 13, 1997 by incorporating the NIST test procedure (62 FR 43416). In that same notice, NHTSA updated the CPL and proposed an alternate test procedure for evaluating the accuracy and precision for wet bath and dry gas calibrating units using infra-red spectroscopy. On June 25, 2007, NHTSA adopted an alternate procedure for evaluating wet bath and dry gas calibrating units using infra-red spectroscopy (72 FR 34742). That notice also adds references to the dry gas standards by fixed concentration of ethanol in terms of parts per million (ppm) and tank size in terms of liters (L). In that same notice, NHTSA updated the CPL to include 22 new listings (8 wet bath and 14 dry gas units).

The CPL that appears in today's notice lists calibrating units that have been determined to conform to the current Model Specifications and continues to identify those units found to conform to the 1984 Model Specifications.

The updated CPL includes 44 new calibrating units (3 wet bath and 41 dry gas units). The wet bath units include:

(1) Alcosim, submitted by Alcohol Countermeasure Systems, Toronto, Ontario, Canada;

(2) Model 12V500 submitted by Guth Laboratories, Inc Harrisburg, Pennsylvania; and

(3) Model 3402C-Tandem submitted by RepCo Marketing, Inc., Raleigh, North Carolina.

The dry gas units ¹ include:

¹ The naming convention of the dry gas units added to the CPL today is illustrative of the ethanol concentration in the volume of nitrogen dry gas. Concentration is expressed in parts per million (ppm) or marketed as breath alcohol concentrations (BAC) and volume is expressed in Liters (L).

(4) 105.1 ppm/30 L, 225.8 ppm/30 L, 104 ppm/55 L, 226 ppm/55 L, 274 ppm/55 L, 53.5 ppm/108 L, 224.9 ppm/108 L, 273.8 ppm/108 L, and 316.2 ppm/108 L totaling nine (9) tanks submitted by Airgas, Mid-America, St. Louis, Missouri.

(5) 65.1 ppm/15 L, 130.3 ppm/15 L, 195.4 ppm/15 L, 208.4 ppm/15 L, 390.8 ppm/15 L, 65.1 ppm/34 L, 130.3 ppm/34 L, 195.4 ppm/34 L, 208.4 ppm/34 L, 260.5 ppm/34 L, 390.8 ppm/34 L, 260.5 ppm/105 L, and 260.5 ppm/116 L totaling 13 tanks submitted by Air Liquide CALGAZ, Cambridge, Maryland.

(6) 104 ppm/34 L, 208 ppm/34 L, 223 ppm/34 L, 260 ppm/34 L, 52 ppm/67 L, 103.5 ppm/67 L, 209 ppm/67 L, 260 ppm/67 L, 103.5 ppm/105 L, 208 ppm/105 L, 223 ppm/105 L, 260 ppm/105 L, 273 ppm/105 L, 52 ppm/108 L, 209 ppm/108 L, 103.5 ppm/110 L, 208 ppm/110 L, 223 ppm/110 L, and 260 ppm/110 L totaling 19 tanks submitted by ILMO Specialty Gas Products, Jacksonville, Illinois.

This notice also removes nine (9) manufacturers of fourteen (14) CUs from the CPL whose products are discontinued or no longer sold or supported by the manufacturer. In some cases, the manufacturer no longer exists or expressed an interest in removing their unit(s) from the CPL. In one case, a unit was previously produced by one manufacturer and is now being supported by another manufacturer. This unit will not be removed from the CPL, but it will be listed only under the manufacturer that is currently supporting it. The manufacturers and units being removed include:

(1) Davtech Analytical Services, Canada, and its CALWAVE dT-100 unit;

(2) Intoximeters, Inc., St. Louis, Missouri, and its Alco Breath Alcohol Standards unit;

(3) Luckey Laboratories, San Bernardino, California, and its Simulator unit;

(4) PLD of Florida, Inc., Rockledge, Florida, and its BA 500 unit;

(5) Protection Devices, Inc., U.S. Alcohol Testing, Inc., Rancho Cucamonga, California, and its LS34 Model 6100 unit;

(6) Scott Specialty Gases, Inc., Plumsteadville, Pennsylvania, and its Model EBS™ Gaseous Ethanol Breath Standard, Scotty 28 0.040 BAC/28L, Scotty 28 0.045 BAC/28L, Scotty 28 0.080 BAC/28L, Scotty 28 0.100 BAC/28L and Scotty 28 0.105 BAC/28L units;

(7) Smith & Wesson Electronic Co., Springfield, Massachusetts is being removed from the CPL. However, its Mark II-A Simulator continues to be supported and maintained by National Draeger, Inc., Colorado. This unit will continue to be listed under National Draeger.

(8) Systems Innovation, Inc., Hallstead, Pennsylvania and its True-Test MD 901 unit; and

(9) U.S. Alcohol Testing, Cucamonga, California and its Alco-Simulator 2000 and Alco-Simulator 61000 units.

The other change today is an update to the listing for Liquid Technology Corp., Orlando, Florida, which expands Ethanol-in-Nitrogen to specify that the unit includes a 105 Liter tank with alcohol concentrations of 104.3 to 219 ppm.

Consistent with the paragraphs above, NHTSA updates the Conforming Products List of Calibrating Units for Breath Alcohol Testers (Manufacturer and Calibrating Unit) ² to read as follows:

² Infra-red (IR) and fuel cell breath testers may be calibrated with either wet-bath or dry-gas CUs. However, it is inadvisable to use dry gas CUs when calibrating gas chromatograph EBTs.

Conforming Products List of Calibrating Units for Breath Alcohol Testers
Manufacturers/Name of units | Type of device: Dry gas | Type of device: Wet bath
1. Airgas, Inc. (Formerly known as: Gateway Airgas, AG Specialty Gas, or Acetylene Gas Co.), St. Louis, MO
Ethanol in Nitrogen Breath Alcohol Standards |  |
• 105.1 ppm/30 liters (L) | X |
• 225.8 ppm/30 L | X |
• 270 ppm/30 L | X |
• 104 ppm/55 liters L | X |
• 226 ppm/55 liters L | X |
• 274 ppm/55 liters L | X |
• 53.5 ppm/108 L | X |
• 103 ppm/108 L | X |
• 224.9 ppm/108 L | X |
• 273.8 ppm/108 L | X |
• 316.2 ppm/108 L | X |
2. Air Liquide CALGAZ, Cambridge, MD
Ethanol in Nitrogen Breath Alcohol Standards
• 65.1 ppm/15 L | X |
• 130.3 ppm/15 L | X |
• 195.4 ppm/15 L | X |
• 208.4 ppm/15 L | X |
• 260.5 ppm/15 L | X |
• 390.8 ppm/15 L | X |
• 65.1 ppm/34 L | X |
• 115 ppm/34 L | X |
• 130.3 ppm/34 L | X |
• 195.4 ppm/34 L | X |
• 208.4 ppm/34 L | X |
• 230 ppm/34 L | X |
• 260.5 ppm/34 L | X |
• 390.8 ppm/34 L | X |
• 260.5 ppm/58 L | X |
• 115 ppm/105 L | X |
• 230 ppm/105 L | X |
• 260.5 ppm/105 L | X |
• 260.5 ppm/116 L | X |
• 260.5 ppm/537 L | X |
3. Alcohol Countermeasure Systems, Toronto, Ontario, Canada
• Alcosim |  | X
4. CMI, Inc., Owensboro, KY |  |
• Toxitest II |  | X
5. Guth Laboratories, Inc., Harrisburg, PA
• Model 34C Simulator |  | X
(variations: Model 34C Cal DOJ, 34-C-FM, and 34C-NPAS) |  | X
• Model 3412 |  | X
• Model 10-4 and 10-4D |  | X
• Model 10-4D Revision A |  | X
• Model 1214 |  | X
• Model 2100 (formerly Model 210021) |  | X
• Model 2100 Revision A |  | X
• 590 |  | X
• 12V500 |  | X
6. ILMO Specialty Gas Products, Jacksonville, IL
Ethanol in Nitrogen Standards
• 104 ppm/34 L | X |
• 208 ppm/34 L | X |
• 223 ppm/34 L | X |
• 260 ppm/34 L | X |
• 52 ppm/67 L | X |
• 103.5 ppm/67 L | X |
• 209 ppm/67 L | X |
• 260 ppm/67 L | X |
• 103.5 ppm/105 L | X |
• 208 ppm/105 L | X |
• 223 ppm/105 L | X |
• 260 ppm/105 L | X |
• 273 ppm/105 L | X |
• 52 ppm/108 L | X |
• 209 ppm/108 L | X |
• 103.5 ppm/110 L | X |
• 208 ppm/110 L | X |
• 223 ppm/110 L | X |
• 260 ppm/110 L | X |
7. Lion Laboratories, Cardiff, Wales, UK (a subsidiary of CMI, Inc.)
• AlcoCal Breath Alcohol Standard | X |
8. Liquid Technology Corp., Orlando, FL
• Ethanol-in-Nitrogen Standards 104.3 to 219 ppm/105 L | X |
9. National Draeger, Inc., Durango, CO
• Mark II-A Simulator* (formerly Smith & Wesson) |  | X
• Alcotest CU 34 |  | X
10. RepCo Marketing, Inc., Raleigh, NC
• AS-1 |  | X
• Model 3402C |  | X
• Model 3402C-2K |  | X
• 3402C-Tandem |  | X
* (This instrument met the Model Specifications in 49 FR 48864 (December 14, 1984), i.e. tested at 0.050, 0.100, and 0.150). Instruments not marked with an asterisk meet the Model Specifications in 72 FR 32742 (June 25, 2007), tested at 0.020, 0.040, 0.080, and 0.160 BrAC.

Authority: 23 U.S.C. 403; 49 CFR 1.50; 49 CFR part 501.

Issued on: October 17, 2012.
Jeff Michael,
Associate Administrator, Research and Program Development, National Highway Traffic Safety Administration.

[FR Doc. 2012-25915 Filed 10-19-12; 8:45 am]

BILLING CODE 4910-59-P